DEPARTMENT OF THE INTERIOR

Bureau of Indian Affairs

[DR.5B711.IA000813]

Indian Gaming

AGENCY: Bureau of Indian Affairs, Interior.

ACTION: Notice of extension of Tribal—State Class III Gaming Compact.

SUMMARY: This publishes notice of the Extension of the Class III gaming compact between the Yankton Sioux Tribe and the State of South Dakota.

DATES: Effective Date: September 5, 2013.

FOR FURTHER INFORMATION CONTACT: Paula L. Hart, Director, Office of Indian Gaming, Office of the Deputy Assistant Secretary—Policy and Economic Development, Washington, DC 20240, (202) 219-4066.

SUPPLEMENTARY INFORMATION: Pursuant to 25 CFR 293.5, an extension to an existing tribal-state Class III gaming compact does not require approval by the Secretary if the extension does not include any amendment to the terms of the compact. The Yankton Sioux Tribe and the State of South Dakota have reached an agreement to extend the expiration of their existing Tribal-State Class III gaming compact to October 31, 2013.

Dated: August 30, 2013.
Kevin K. Washburn,
Assistant Secretary—Indian Affairs.

[FR Doc. 2013-21644 Filed 9-4-13; 8:45 am]

BILLING CODE 4310-4N-P